DEPARTMENT OF ENERGY

U.S. Energy Information Administration

Agency Information Collection Activities: Proposed Collection; Comment Request; Generic Clearance for the Collection of Qualitative Feedback on Agency Service Delivery

AGENCY: U.S. Energy Information Administration (EIA), Department of Energy.

ACTION: 30-Day Notice of Submission of Information Collection Approval From the Office of Management and Budget and Request for Comments.

SUMMARY: As part of a Federal Government-wide effort to streamline the process to seek feedback from the public on service delivery, EIA has submitted a Generic Information Collection Request (Generic ICR): “Generic Clearance for the Collection of Qualitative Feedback on Agency Service Delivery” to OMB for approval under the Paperwork Reduction Act (PRA) (44 U.S.C. 3501 et. seq.).

DATES: Comments must be submitted by December 12, 2016.

ADDRESSES: Written comments may be submitted to:

DOE Desk Officer, Office of Information and Regulatory Affairs, Office of Management and Budget, New Executive Office Building, Room 10102, 735 17th Street NW., Washington, DC 20503.

and to

Jacob Bournazian, Energy Information Administration, 1000 Independence Avenue SW., Washington, DC 20585, or by fax at 202-586-0552, or by email at jacob.bournazian@eia.gov.

FOR FURTHER INFORMATION CONTACT: Requests for additional information should be directed to Jacob Bournazian, U.S. Energy Information Administration, 1000 Independence Avenue SW., Washington, DC 20585, phone: 202-586-5562, email: jacob.bournazian@eia.gov.

SUPPLEMENTARY INFORMATION: OMB Number: 1905-0210.

Title: Generic Clearance for the Collection of Qualitative Feedback on Agency Service Delivery.

Abstract: The proposed information collection activity provides a means to collect qualitative customer and stakeholder feedback in an efficient, timely manner, in accordance with the Administration's commitment to improving service delivery.

Qualitative feedback means data that provide useful insights on perceptions and opinions, but are not statistical surveys that yield quantitative results that can be generalized to the population of study. This feedback will provide insights into customer or stakeholder perceptions, experiences and expectations. This feedback also provides an early warning of issues with service, or focuses attention on areas where communication, training or changes in operations might improve the accuracy of data reported on survey instruments or the delivery of products or services. These collections will allow for ongoing, collaborative and actionable communications between the agency and its customers and stakeholders. It will also allow feedback to contribute directly to the improvement of program management.

Feedback collected under this generic clearance provides useful information, but it does not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

The 60-day notice was published in the Federal Register of August 1, 2016 at 81 FR 50492 and is available at https://www.gpo.gov/fdsys/pkg/FR-2016-08-01/pdf/2016-18120.pdf. EIA proposes to increase the burden hour estimate shown in the 60-day notice from 15,000 hours to 15,750 hours (5,250 hours annually) to reflect current program needs. Below we provide EIA's projected average estimates for the next three years:

Type of Review: Revision of a currently approved collection.

Affected Public: Individuals and Households, Businesses and Organizations, State, Local or Tribal Government.

Average Expected Annual Number of Activities: 10.

Average Number of Respondents per Activity: 5,000.

Annual Estimated Number of Responses: 50,000.

Frequency of Response: Once per request.

Average Minutes per Response: 6.3.

Annual Burden Hours: 5,250.

An agency may not conduct or sponsor, and a person is not required to respond to, a collection of information unless it displays a currently valid Office of Management and Budget control number.

Statutory Authority: Executive Order (EO) 13571, Streamlining Service Delivery and Improving Customer Service.

Issued in Washington, DC on November 4, 2016.
Nanda Srinivasan,
Director, Office of Survey Development and Statistical Integration, U.S. Energy Information Administration.

[FR Doc. 2016-27173 Filed 11-9-16; 8:45 am]

BILLING CODE 6450-01-P